DEPARTMENT OF TRANSPORTATION

Federal Aviation Administration

Public Meeting/Notice of Availability for Proposed Air Tour Management Plan at Golden Gate National Recreation Area; Muir Woods National Monument; San Francisco Maritime National Historical Park; and Point Reyes National Seashore

AGENCY: Federal Aviation Administration (FAA), Transportation.

ACTION: Public meeting/notice of availability for draft Air Tour Management Plan at the Golden Gate National Recreation Area; Muir Woods National Monument; San Francisco Maritime National Historical Park; and Point Reyes National Seashore.

SUMMARY: The FAA, in cooperation with the National Park Service (NPS), has initiated development of a combined Air Tour Management Plan (ATMP) for the Golden Gate National Recreation Area, Muir Woods National Monument, San Francisco Maritime National Historical Park, and Point Reyes National Seashore (collectively referred to as the Parks) pursuant to the National Parks Air Tour Management Act of 2000 (the Act) and its implementing regulations. The Act requires that in developing an ATMP for a national park or tribal lands, the FAA and the NPS must hold at least one public meeting with interested parties. In addition, the Act requires that the ATMPs be published in the Federal Register for notice and comment and that copies be made available to the public. This notice announces the public availability of the proposed ATMP for comment and the public meeting for the Parks. The purpose of this meeting is to review the proposed ATMP and further ATMP development with the public.

In accordance with Section 106 of the National Historic Preservation Act, the FAA and the NPS are also seeking public comment on the potential of the proposed ATMP to cause adverse effects to historic properties.

DATES:

Comment Period: Comments must be received on or before 30 days from this notice. Comments will be received on the NPS Planning, Environment and Public Comment System (PEPC) website. The PEPC website for the Parks is: https://parkplanning.nps.gov/BayAreaATMP.

Meeting: The meeting will be held at the following date and time:

• Tuesday, October 26, 2021 (4:30-6:00 p.m. PT).

Livestream: https://youtu.be/vVlOC2ovidA.

ADDRESSES: The meeting will be held virtually. Members of the public who wish to observe the virtual meeting can access the livestream from the following FAA social media platforms on the day of the event, https://www.facebook.com/FAA, https://twitter.com/FAANews, and https://www.youtube.com/FAAnews.

FOR FURTHER INFORMATION CONTACT: Any request for reasonable accommodations should be sent to the person listed on the Parks' PEPC site, or call Keith Lusk at (424) 405-7017.

SUPPLEMENTARY INFORMATION: The FAA is issuing this notice pursuant to the National Parks Air Tour Management Act of 2000 (Pub. L. 106-181 (https://www.govinfo.gov/link/plaw/106/public/181?link-type=html)) and its implementing regulations contained in Title 14, Code of Federal Regulations, Part 136, Subpart B, National Parks Air Tour Management. The objective of any ATMP must be to provide acceptable and effective measures to mitigate or prevent the significant adverse impacts, if any, of commercial air tour operations upon the natural and cultural resources, visitor experiences, and tribal lands. Further, an ATMP must comply with National Environmental Policy Act (NEPA) and its accompanying regulations and the Act designates the FAA as the lead agency for that purpose. The FAA and the NPS are inviting comment from the public, Federal and state agencies, tribes, and other interested parties on the proposed ATMP for the Golden Gate National Recreation Area, Muir Woods National Monument, San Francisco Maritime National Historical Park, and Point Reyes National Seashore. Any Indian tribe whose tribal lands are, or may be, overflown by aircraft involved in a commercial air tour operation over the park or tribal lands to which the ATMP applies, will be invited to participate in the NEPA process as a cooperating agency.

The FAA and the NPS have determined that each ATMP constitutes a Federal undertaking subject to compliance with Section 106 of the National Historic Preservation Act and its implementing regulations (36 CFR part 800). The FAA and the NPS are consulting with tribes, State and Tribal Historic Preservation Officers, and other interested parties to identify historic properties and assess the potential effects of the ATMP on them.

The meeting will be open to the public and livestreamed. Members of the public who wish to observe the virtual meeting can access the livestream from the following FAA social media platforms on the day of the event, https://www.facebook.com/FAA (https://www.facebook.com/FAA), https://twitter.com/FAANews (https://twitter.com/FAANews), and https://www.youtube.com/FAAnews (https://www.youtube.com/FAAnews). The U.S. Department of Transportation is committed to providing equal access to the meetings for all participants. If you need alternative formats or services because of a disability, such as sign language, interpretation, or other ancillary aids, please contact the person listed in the FOR FURTHER INFORMATION CONTACT section.

The FAA and the NPS request that comments be as specific as possible in response to actions that are being proposed under this notice. All written comments become part of the official record. Written comments on the proposed ATMP must be submitted via PEPC or sent to the mailing address listed in the FOR FURTHER INFORMATION CONTACT section provided on the Parks' PEPC site. Comments will not be accepted by fax, email, or any other way than those specified above. Before including your address, phone number, email address, or other personal identifying information in your comment, you should be aware that your entire comment—including your personal identifying information—may be made publicly available at any time. While you can ask us in your comment to withhold your personal identifying information from public review, we cannot guarantee that we will be able to do so.

Documents that describe the Parks' proposed ATMP project in greater detail are available at the following locations:

• FAA Air Tour Management Plan Program website, http://www.faa.gov/about/office_org/headquarters_offices/arc/programs/air_tour_management_plan/.

• NPS Planning, Air Tours website, https://home.nps.gov/subjects/sound/airtours.htm.

Issued in El Segundo, CA. On October 8, 2021.
Kevin Lusk,
Program Manager, Special Programs Office, Western-Pacific Region.

[FR Doc. 2021-22461 Filed 10-14-21; 8:45 am]

BILLING CODE 4910-13-P